DEPARTMENT OF AGRICULTURE

Federal Crop Insurance Corporation

7 CFR Part 400

General Administrative Regulations; Food Security Act of 1985, Implementation; Denial of Benefits; Correcting Amendment

AGENCY: Federal Crop Insurance Corporation, USDA.

ACTION: Correcting Amendment.

SUMMARY: This document contains a technical correction to subpart F of the General Administrative Regulations, concerning the denial of crop insurance when a person is ineligible due to a conviction of a controlled substance violation.

EFFECTIVE DATE: May 9, 2000.

FOR FURTHER INFORMATION CONTACT: Bill Smith, Supervisory Insurance Management Specialist, Research and Development, Product Development Division, FCIC, at 9435 Holmes Road, Kansas City, MO 64131, telephone (816) 926-7743 (not a toll-free call).

SUPPLEMENTARY INFORMATION:

Background

The provision contained in 7 CFR part 400.47(a)(2) states that the application and policy of insurance will be canceled when a person becomes ineligible for crop insurance as a result of a conviction for planting, cultivating, growing, producing, harvesting or storing a controlled substance and that a person may submit a new application to obtain crop insurance coverage following the period of ineligibility. As published, the final regulation was not clear regarding the requirement to submit a new application.

Need for Correction

As published, the regulation is not clear and has proven to be misleading. Clarification of the requirement to submit a new application for crop insurance coverage following ineligibility is needed.

List of Subjects in 7 CFR Part 400

Crop insurance.

Accordingly, 7 CFR part 400 is corrected by making the following correcting amendment:

PART 400—GENERAL ADMINISTRATIVE REGULATIONS

Subpart F—Food Security Act of 1985, Implementation; Denial of Benefits

1. The authority citation for subpart F continues to read as follows:

Authority: Secs, 1506, 1516, Pub.L. 75-430, 52 Stat. 73,77, as amended (7 U.S.C. 1501 et seq.); sec. 1244, Pub.L. 99-198.

2. In § 400.47, paragraph (a)(2), is revised to read as follows:

§ 400.47 Denial of crop insurance.

(a) * * *

(2) The application and policy of insurance will be voided, or the person will be removed from the policy and the policyholder share reduced in accordance with 7 CFR 400.681(b), when any person becomes ineligible for crop insurance under the provisions of paragraph (a) of this section. To obtain crop insurance coverage following the period of ineligibility, the person must submit a new application for crop insurance.

* * * * *

Signed in Washington D.C., on April 11, 2000.
Kenneth D. Ackerman,
Manage, Federal Crop Insurance Corporation.

[FR Doc. 00-9598 Filed 5-9-00; 8:45 am]

BILLING CODE 3410-08-P